GOVERNMENT ACCOUNTABILITY OFFICE

Methodology Committee of the Patient-Centered Outcomes Research Institute (PCORI)

AGENCY: Government Accountability Office (GAO).

ACTION: Notice on letters of nomination.

SUMMARY: The Patient Protection and Affordable Care Act gave the Comptroller General of the United States responsibility for appointing not more than 15 members to a Methodology Committee of the Patient-Centered Outcomes Research Institute. In addition, the Directors of the Agency for Healthcare Research and Quality and the National Institutes of Health, or their designees, are members of the Methodology Committee. Methodology Committee members must meet the qualifications listed in Section 6301 of the Act. For these appointments, I am announcing the following: Letters of nomination and resumes should be submitted by October 29, 2010 to ensure adequate opportunity for review and consideration of nominees prior to appointment. If an individual has previously submitted a letter of nomination and resume to be considered for appointment to the PCORI Board of Governors and would also like to be considered for nomination to the PCORI Methodology Committee, please so indicate by e-mail or mail as noted below, however you do not need to submit another resume. Letters of nomination, nominee contact information and resumes can be forwarded to either the e-mail or mailing address listed below.

ADDRESSES: Nominations can be submitted by either of the following:

E-mail: PCORIMethodology@gao.gov (in the subject line, please write “NOMINEE'S LAST NAME, Methodology Committee”). If submitted via e-mail, please do not mail a hard copy.

Mail: GAO Health Care, Attention: PCOR Institute Methodology Committee, 441 G Street, NW., Washington, DC 20548.

FOR FURTHER INFORMATION CONTACT: GAO: Office of Public Affairs, (202) 512-4800.

[Sec. 6301, Pub. L. 111-1481].

Gene L. Dodaro,
Acting Comptroller General of the United States.

[FR Doc. 2010-24143 Filed 9-27-10; 8:45 am]

BILLING CODE 1610-02-M